COMMISSION ON CIVIL RIGHTS

Sunshine Act Meeting

AGENCY: United States Commission on Civil Rights.

ACTION: Notice of Briefing and Business Meeting.

DATE AND TIME: Friday, April 19, 2013; 9:30 a.m. EST.

PLACE: 1331 Pennsylvania Ave NW., Suite 1150, Washington, DC 20425.

Briefing Agenda—9:30 a.m.-11:15 a.m.

This briefing is open to the public.

Topic: Increasing Compliance with Section 7 of the NVRA.

I. Introductory Remarks by Chairman

II. Panel Discussion—State Government Officials & Litigators Speakers' Remarks and Questions from Commissioners

III. Adjourn Briefing

Meeting Agenda—11:15 a.m.

I. Approval of Agenda

II. Office of General Counsel—Training on Online Filing of OGE Form 278

III. Program Planning

• Update on the Sex Trafficking: A Gender-Based Violation of Civil Rights briefing

• Update on the Federal Civil Rights Engagement with Arab & Muslim Communities Post 9/11 briefing

• Update on the Assessing the Impact of Criminal Background Checks and the Equal Employment Opportunity Commission's Conviction Records Policy on the Employment of Black and Hispanic Workers briefing

• Update on the Regulatory and Other Barriers to Entrepreneurship that Impede Business Start-Ups Briefing

• Update on the Reconciling Non-Discrimination Principles with Civil Liberties briefing

• Update on the Adequate Protection of the Civil Rights of Veterans and Service Members Briefing

IV. Management and Operations

• Consideration of Changes to Business Meeting Calendar for August and September 2013

• Discussion re: the Chief of RPCU position

• Discussion re: delegation of authority to the Chief of the RPCU to approve SAC project proposals

• Update on Budget and Personnel issues from the Office of Management & Budget

V. Approval of State Advisory Committee Appointment Slates

• Illinois

• Mississippi

• New Jersey

• South Dakota

• Utah

VI. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: April 8, 2013.
TinaLouise Martin,
Director of Management/Human Resources.

[FR Doc. 2013-08533 Filed 4-8-13; 4:15 pm]

BILLING CODE 6335-01-P